DEPARTMENT OF HOMELAND SECURITY

Coast Guard

33 CFR Parts 100 and 165

[Docket No. USCG-2012-0373]

RIN 1625-AA08

RIN 1625-AA00

Eighth Coast Guard District Annual Marine Events and Safety Zones; Billy Bowlegs Pirate Festival; Santa Rosa Sound; Ft. Walton Beach, FL

AGENCY: Coast Guard, DHS.

ACTION: Notice of enforcement of regulation.

SUMMARY: The Coast Guard will enforce a Special Local Regulation and a Safety Zone for the Billy Bowlegs Pirate Festival in the Santa Rosa Sound, Ft. Walton Beach, FL on June 1 and June 2, 2012. This action is necessary to safeguard participants and spectators, including all crews, vessels, and persons on navigable waters during the Billy Bowlegs Pirate Festival. During the enforcement period, entry into, transiting or anchoring in the regulated area is prohibited to all vessels not registered with the sponsor as participants or official patrol vessels, unless specifically authorized by the Captain of the Port (COTP) Mobile or a designated representative.

DATES: The regulations in 33 CFR 100.801, Table 1, Table No. 99 and Sector Mobile No. 12; and 33 CFR 165.801, Table 1, Table No. 144 and Sector Mobile No. 3 will be enforced on June 1 and June 2, 2012.

FOR FURTHER INFORMATION CONTACT: If you have questions on this notice of enforcement, call or email LT Lenell J. Carson, Coast Guard Sector Mobile, Waterways Division; telephone 251-441-5940 or email Lenell.J.Carson@uscg.mil.

SUPPLEMENTARY INFORMATION: On June 1 and June 2, 2012, the Coast Guard will enforce the Special Local Regulation in 33 CFR 100.801, Table 1, Table No. 99 and Sector Mobile No. 12, and the Safety Zone in 33 CFR 165.801, Table 1, Table No. 144 and Sector Mobile No. 3 for the annual Billy Bowlegs Pirate Festival.

Under the provisions of 33 CFR 100.801, all persons and vessels not registered with the sponsor as participants or official patrol vessels are considered spectators. The “official patrol vessels” consist of any Coast Guard, state or local law enforcement and sponsor provided vessels assigned or approved by the Commander, Eighth Coast Guard District, to patrol the event. Spectator vessels desiring to transit the regulated area listed in § 100.801 Table 1, Table No. 99 and Sector Mobile No. 12 may do so only with prior approval of the Patrol Commander and when so directed by that officer and will be operated at a no wake speed in a manner which will not endanger participants in the event or any other craft. No spectator shall anchor, block, loiter, or impede the through transit of participants or official patrol vessels in the regulated area during the effective dates and times, unless cleared for entry by or through an official patrol vessel. The Patrol Commander may forbid and control the movement of all vessels in the regulated area. When hailed or signaled by an official patrol vessel, a vessel shall come to an immediate stop and comply with the directions given. Failure to do so may result in expulsion from the area, citation for failure to comply, or both. Any spectator vessel may anchor outside the regulated area, but may not anchor in, block, or loiter in a navigable channel. The Patrol Commander may terminate the event or the operation of any vessel at any time it is deemed necessary for the protection of life or property. The Patrol Commander will terminate enforcement of the special regulations at the conclusion of the event.

Under the provisions of 33 CFR 165.801, entry into the safety zone listed in Table 1, Table No. 144 and Sector Mobile No. 3 is prohibited unless authorized by the Captain of the Port or a designated representative. Persons or vessels desiring to enter into or passage through the safety zone must request permission from the Captain of the Port or a designated representative. If permission is granted, all persons and vessels shall comply with the instructions of the Captain of the Port or designated representative.

This notice is issued under authority of 5 U.S.C. 552(a). In addition to this notice in the Federal Register, the Coast Guard will provide the maritime community with advance notification of this enforcement period via Local Notice to Mariners and Marine Information Broadcasts.

If the Captain of the Port Mobile or Patrol Commander determines that the regulated area need not be enforced for the full duration stated in this notice of enforcement, he or she may use a Broadcast Notice to Mariners to grant general permission to enter the regulated area.

Dated: May 7, 2012.
K.D. Ivery,
Captain, U.S. Coast Guard, Captain of the Port Mobile, Acting.

[FR Doc. 2012-12951 Filed 5-25-12; 8:45 am]

BILLING CODE 9110-04-P